ENVIRONMENTAL PROTECTION AGENCY

[FRL-9819-2]

Notification of a Public Teleconference of the Great Lakes Advisory Board

AGENCY: Environmental Protection Agency (EPA).

ACTION: Notice.

SUMMARY: The Environmental Protection Agency (EPA) announces a public teleconference of the Great Lakes Advisory Board (GLAB). The purpose of the teleconference is to continue discussions that will inform the development of a draft Great Lakes Restoration Initiative FY 2015-2019 Action Plan.

DATES: The public teleconference will be held on Wednesday, June 12, 2013 from 9:00 a.m. to 10:30 a.m. The teleconference numbers is: (877) 226-9607; Participant code: 4218582837. Due to budgetary uncertainties, EPA is announcing this teleconference with less than 15 calendar days public notice.

ADDRESSES: The public teleconference will take place by telephone only.

FOR FURTHER INFORMATION CONTACT: Any member of the public wishing further information regarding this teleconference may contact Rita Cestaric, Designated Federal Officer (DFO), GLAB, by telephone at (312) 886-6815 or email at cestaric.rita@epa.gov. General information on the Great Lakes Restoration Initiative (GLRI) and the GLAB can be found on the GLRI Web site at http://www.glri.us.

SUPPLEMENTARY INFORMATION:

Background: The GLAB is a federal advisory committee chartered under the Federal Advisory Committee Act (FACA), Public Law 92-463. EPA established the GLAB in 2013 to provide independent advice to the EPA Administrator in his or her capacity as Chair of the federal Great Lakes Interagency Task Force. The GLAB conducts business in accordance with FACA and related regulations.

The GLAB consists of 18 members appointed by EPA's Administrator. Members serve as representatives of state, local and tribal government, environmental groups, agriculture, business, transportation, foundations, educational institutions and as technical experts.

The GLAB held a teleconference and meeting on May 21-22, 2013 (as noticed in 78 FR 26636-26637) to discuss the development of a draft FY 2015-2019 GLRI Action Plan.

The teleconference will provide opportunity for members of the public to submit oral comments in response to the charge questions for consideration by the GLAB. The charge questions are available at http://www.glri.us.

Also, periodic opportunities for the public to provide input for the GLAB to consider will be provided after the June 12 teleconference.

Availability of Teleconference Materials: The agenda and other materials in support of the teleconference will be available on the GLRI Web site at http://www.glri.us in advance of the teleconference.

Procedures for Providing Public Input: Federal advisory committees provide independent advice to federal agencies. Members of the public can submit relevant comments for consideration by the GLAB. Input from the public to the GLAB will have the most impact if it provides specific information for the GLAB to consider. Members of the public wishing to provide comments should contact the DFO directly.

Oral Statements: In general, individuals or groups requesting an oral presentation at this public teleconference will be limited to three minutes per speaker, subject to the number of people wanting to comment. Interested parties should contact Rita Cestaric, DFO, in writing (preferably via email) at the contact information noted above by June 10, 2013 to be placed on the list of public speakers for the teleconference.

Written Statements: Written statements must be received by June 10, 2013 so that the information may be made available to the GLAB for consideration. Written statements should be supplied to the DFO in the following formats: One hard copy with original signature and one electronic copy via email. Commenters are requested to provide two versions of each document submitted: one each with and without signatures because only documents without signatures may be published on the GLRI Web page.

Accessibility: For information on access or services for individuals with disabilities, please contact Rita Cestaric at the phone number or email address noted above, preferably at least 10 days prior to the teleconference, to give EPA as much time as possible to process your request.

Dated: May 23, 2013.
Cameron Davis,
Senior Advisor to the Administrator.

[FR Doc. 2013-12962 Filed 5-30-13; 8:45 am]

BILLING CODE 6560-50-P